DEPARTMENT OF TRANSPORTATION

Federal Motor Carrier Safety Administration

[Docket No. FMCSA-2019-0207]

Qualification of Drivers; Exemption Applications; Epilepsy and Seizure Disorders

AGENCY: Federal Motor Carrier Safety Administration (FMCSA), DOT.

ACTION: Notice of denials.

SUMMARY: FMCSA announces its decision to deny applications from 41 individuals who requested an exemption from the Federal Motor Carrier Safety Regulations (FMCSRs) prohibiting persons with a clinical diagnosis of epilepsy or any other condition that is likely to cause a loss of consciousness or any loss of ability to operate a commercial motor vehicle (CMV) from operating CMVs in interstate commerce.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are from 8:30 a.m. to 5 p.m., ET, Monday through Friday, except Federal holidays. If you have questions regarding viewing material in the docket, contact Docket Operations, (202) 366-9826.

SUPPLEMENTARY INFORMATION:

I. Public Participation

A. Viewing Documents and Comments

To view comments, as well as any documents mentioned in this notice as being available in the docket, go to http://www.regulations.gov/docket?D=FMCSA-2019-0207 and choose the document to review. If you do not have access to the internet, you may view the docket online by visiting Docket Operations in Room W12-140 on the ground floor of the DOT West Building, 1200 New Jersey Avenue SE, Washington, DC 20590, between 9 a.m. and 5 p.m., ET, Monday through Friday, except Federal holidays.

B. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.transportation.gov/privacy.

II. Background

FMCSA received applications from 41 individuals who requested an exemption from the FMCSRs prohibiting persons with a clinical diagnosis of epilepsy or any other condition that is likely to cause a loss of consciousness or any loss of ability to operate a CMV from operating CMVs in interstate commerce.

FMCSA has evaluated the eligibility of these applicants and concluded that granting these exemptions would not provide a level of safety that would be equivalent to, or greater than, the level of safety that would be obtained by complying with § 391.41(b)(8).

III. Basis for Exemption Determination

Under 49 U.S.C. 31136(e) and 31315(b), FMCSA may grant an exemption from the FMCSRs for no longer than a 5-year period if it finds such exemption would likely achieve a level of safety that is equivalent to, or greater than, the level that would be achieved absent such exemption. The statute also allows the Agency to renew exemptions at the end of the 5-year period. FMCSA grants medical exemptions from the FMCSRs for a 2-year period to align with the maximum duration of a driver's medical certification. The Agency's decision regarding these exemption applications is based on the eligibility criteria, the terms and conditions for Federal exemptions, and an individualized assessment of each applicant's medical information provided by the applicant.

IV. Conclusion

The Agency has determined that these applicants do not satisfy the eligibility criteria or meet the terms and conditions of the Federal exemption and granting these exemptions would not provide a level of safety that would be equivalent to, or greater than, the level of safety that would be obtained by complying with § 391.41(b)(8). Therefore, the 41 applicants in this notice have been denied exemptions from the physical qualification standards in § 391.41(b)(8).

Each applicant has, prior to this notice, received a letter of final disposition regarding his/her exemption request. Those decision letters fully outlined the basis for the denial and constitute final action by the Agency. This notice summarizes the Agency's recent denials as required under 49 U.S.C. 31315(b)(4) by periodically publishing names and reasons for denial.

The following 41 applicants do not meet the minimum time requirement for being seizure-free, either on or off of anti-seizure medication:

Justin Bartlett (ME)

Robert Bonds (SC)

Michael Bretz (MN)

Theresa Buchanan (MI)

Kenneth Caldwell (CA)

Joseph Campbell (AK)

Timothy Campbell (IN)

Leslie Dillard (NC)

Earnest Drummond (GA)

Jackie Frolund (MN)

Michael Galloway (WI)

Aaron Gnoinsky (ND)

Kenny Goins (TN)

Michael Gravley (NV)

Nathanial Harmon (WI)

Dustan Hendrickson (OR)

Alfonzo Hennigan (GA)

Timothy Howard (NY)

Billy Hunter (KY)

Brian Iverson (CA)

Lance Johnson (TN)

Michael Kramer (KS)

Kurtis Kuhl (OH)

Blake Kunkel (MN)

Michael Leiterman (WI)

Nicholas Liebe (WI)

Robert Macarthur (MO)

Brian Manning (NJ)

Kevin Mast (CA)

Anthony Middleton (NJ)

Christopher Monsky (CT)

Joshua Pittman (CA)

Lee Riebe (OH)

Blake Shaw (NY)

Gregory Stone (SC)

David Thomas (OK)

Laranzo White (SC)

Patrick Willis (CO)

Kenneth Winn (UT)

James Woltz (GA)

David Wright (MA)

Issued on: January 17, 2020.
Larry W. Minor,
Associate Administrator for Policy.

[FR Doc. 2020-01274 Filed 1-24-20; 8:45 am]

BILLING CODE 4910-EX-P